DEPARTMENT OF COMMERCE

National Oceanic and Atmospheric Administration

50 CFR Part 660

RIN 0648-BC95

Fisheries Off West Coast States; West Coast Salmon Fisheries; Notice of Availability for Amendment 18 to the Salmon Fishery Management Plan

AGENCY: National Marine Fisheries Service (NMFS), National Oceanic and Atmospheric Administration (NOAA), Commerce.

ACTION: Availability of amendment to a fishery management plan; request for comments.

SUMMARY: NMFS announces that the Pacific Fishery Management Council (Council) has transmitted Amendment 18 to the Pacific Coast Salmon Fishery Management Plan for Commercial and Recreational Salmon Fisheries off the Coasts of Washington, Oregon, and California (FMP) for Secretarial review. Amendment 18 revises the description and identification of essential fish habitat (EFH) for Pacific salmon, designates habitat areas of particular concern (HAPC), modifies the current information on fishing activities and potential measures to minimize their effects on EFH, and updates the list of non-fishing related activities that may adversely affect EFH and potential conservation and enhancement measures to minimize those effects. Amendment 18 is available on the Council's Web site (www.pcouncil.org).

DATES: Comments on Amendment 18 must be received on or before August 15, 2014.

ADDRESSES: You may submit comments, identified by NOAA-NMFS-2014-0071, by any one of the following methods:

• Electronic Submissions: Submit all electronic public comments via the Federal e-Rulemaking Portal http://www.regulations.gov. To submit comments via the e-Rulemaking Portal, enter NOAA-NMFS-2014-0071 in the search box. Locate the document you wish to comment on from the resulting list and click on the “Submit a Comment” icon on the right of that line.

• Mail: William W. Stelle, Jr., Regional Administrator, West Coast Region, NMFS, 7600 Sand Point Way NE., Seattle, WA 98115-0070.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information or otherwise sensitive or protected information. NMFS will accept anonymous comments (enter N/A in the required fields if you wish to remain anonymous). Attachments to electronic comments will be accepted in Microsoft Word, Excel, WordPerfect, or Adobe PDF file formats only.

Electronic copies of the amendment may be obtained from the Council Web site at http://www.pcouncil.org.

FOR FURTHER INFORMATION CONTACT: Peggy Mundy at 206-526-4323.

SUPPLEMENTARY INFORMATION: The ocean salmon fisheries in the exclusive economic zone off Washington, Oregon, and California are managed under a framework fishery management plan entitled the Pacific Coast Salmon Fishery Management Plan (FMP). The Magnuson-Stevens Fishery Conservation and Management Act (MSA) requires that each regional fishery management council submit any FMP or plan amendment it prepares to NMFS for review and approval, disapproval, or partial approval. The MSA also requires that NMFS, upon receiving an FMP or amendment, immediately publish a notice that the FMP or amendment is available for public review and comment. NMFS will consider the public comments received during the comment period described above in determining whether to approve Amendment 18 to the FMP.

Essential fish habitat (EFH) definitions for salmon stocks managed under the FMP were originally developed in Amendment 14 to the FMP, and codified by NMFS in 2008 (73 FR 60987, October 15, 2008). The MSA requires periodic review of EFH provisions, and revision or amendment of those provisions, as warranted, based on available information (50 CFR 600.815(a)(10)). In 2009, the PFMC and NMFS established and staffed a Pacific Salmon EFH Oversight Panel (Panel) to review salmon EFH and new information relevant to salmon EFH, and to make recommendations as to whether revisions would be appropriate. The Panel recommended modifications to Pacific salmon EFH in a final report submitted to the Council (Stadler et al. 2011). At its April 2011 meeting, the Council initiated an FMP amendment to address the Panel's recommendations. The Council adopted modifications to salmon EFH contained in Amendment 18 at their September 2013 meeting, and transmitted the proposed amendment to NMFS on June 10, 2014.

Freshwater EFH for salmon is described using hydrologic unit codes (HUCs) developed by the US Geological Survey (USGS). The USGS has changed the numbering of some of these HUCs since salmon EFH was originally described under Amendment 14; therefore, Amendment 18 revises Appendix A to the FMP with the updated HUC designations. Additionally, new scientific information has become available on current and historically occupied freshwater salmon habitat; Amendment 18 revises the description and identification of essential fish habitat (EFH) for salmon, based on the latest scientific information available. Amendment 18 also modifies the process for determining whether freshwater habitat above impassable barriers (e.g., dams) should be defined as EFH; designates habitat areas of particular concern; modifies the current information on fishing activities and potential measures to minimize their effects on EFH; and updates the list of non-fishing related activities that may adversely affect EFH and potential conservation and enhancement measures to minimize those effects.

NMFS welcomes comments on the proposed FMP amendment through the end of the comment period. Amendment 18 is available on the Council's Web site (www.pcouncil.org). The Council also transmitted a proposed rule to implement Amendment 18 for Secretarial review and approval. NMFS expects to publish and request public review and comment on this rule in the near future. Public comments on the proposed rule must be received by the end of the comment period on the amendment to be considered in the approval/disapproval decision on the amendment. All comments received by the end of the comment period for the amendment, whether specifically directed to the amendment or the proposed rule, will be considered in the approval/disapproval decision.

Authority: 16 U.S.C. 1801 et seq.

Dated: June 11, 2014.
Emily H. Menashes,
Acting Director, Office of Sustainable Fisheries, National Marine Fisheries Service.

[FR Doc. 2014-14033 Filed 6-13-14; 8:45 am]

BILLING CODE 3510-22-P